FEDERAL COMMUNICATIONS COMMISSION

47 CFR Part 73

[DA 01-739; MM Docket No. 01-78; RM-10080]

Radio Broadcasting Services; Grants and Bosque Farms, NM

AGENCY: Federal Communications Commission (FCC).

ACTION: Proposed rule.

SUMMARY: The Commission requests comments on a petition for rule making filed by Educational Media Foundation, permittee of Station KQLV, Channel 288C, Grants, NM, seeking the substitution of Channel 288C2 for Channel 288C, reallotment of the channel from Grants to Bosque Farms, NM, as the community's second local and first competitive FM service, and the modification of Station KQLV's permit accordingly. In addition, Educational Media Foundation requests the allotment of Channel 244C3 to Grants. Channel 288C2 can be allotted to Bosque Farms in compliance with the Commission's minimum distance separation requirements with a site restriction of 12.3 kilometers (7.6 miles southwest, at coordinates 34-47-55 NL; 106-48-59 WL, to accommodate petitioner's desired transmitter site. Channel 244C3 can be allotted to Grants without the imposition of a site restriction, at coordinates 35-09-08 NL; 107-50-33 WL. The Commission also proposes to editorially amend the FM Table of Allotments by substituting Channel 284C1 for Channel 284C at Bosque Farms to reflect the license of Station KTEG.

DATES: Comments must be filed on or before May 14, 2001, and reply comments on or before May 29, 2001.

ADDRESSES: Secretary, Federal Communications Commission, Washington, DC 20554. In addition to filing comments with the FCC, interested parties should serve the petitioner, as follows: David D. Oxenford, Veronica D. McLaughlin, Shaw Pittman, 2300 N Street, NW., Washington, DC 20037-1128 (Counsel to petitioner).

FOR FURTHER INFORMATION CONTACT: Leslie K. Shapiro, Mass Media Bureau, (202) 418-2180.

SUPPLEMENTARY INFORMATION: This is a synopsis of the Commission's Notice of Proposed Rule Making, MM Docket No. 01-78; adopted May 14, 2001 and released May 29, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under New Mexico, is amended by removing Channel 288C and adding Channel 244C3 at Grants, and removing Channel 284C and adding Channels 288C2 and 284C1 at Bosque Farms.

Federal Communications Commission.
John A. Karousos,
Chief, Allocations Branch, Policy and Rules Division, Mass Media Bureau.

[FR Doc. 01-8244 Filed 4-3-01; 8:45 am]

BILLING CODE 6712-01-P